DEPARTMENT OF THE INTERIOR

Bureau of Reclamation

Closure Order Establishing Prohibitions at Folsom Lake, CA

AGENCY: Bureau of Reclamation.

ACTION: Notice of closure.

SUMMARY: The Bureau of Reclamation (Reclamation) is restricting access to property adjacent to the Folsom left wing dam. The closure notice affects the roadway from the left wing dam, southeast to the pipe gate located between the wing dam and East Natoma Street (approximately .8 miles). The closure notice affects the paved Overlook area immediately adjacent to the Folsom left wing dam. The closure notice affects the property between the toe of the left wing dam, the American River and the State of California, Department of Corrections, Folsom Prison facility.

Note: Reclamation is preparing an Environmental Impact Statement that will identify the impacts of the Folsom Dam Road Closure. This closure notice may be modified as appropriate in accordance with the Record of Decision associated with the Folsom Dam Road Closure, Environmental Impact Statement.

DATES: The closure is effective April 19, 2004, and will remain in effect indefinitely.

ADDRESSES: A map is available for inspection at the Reclamation's Central California Area Office, located at 7794 Folsom Dam Road, Folsom, California, 95630.

FOR FURTHER INFORMATION CONTACT: Bureau of Reclamation, Mid-Pacific Region Public Affairs Office at (916) 978-5100.

SUPPLEMENTARY INFORMATION: This action is being taken under 43 CFR part 423.3 to improve facility security and public safety. This closure notice will allow Reclamation to adjust security officer posts and position barriers such that access will be improved to the State of California, Department of Corrections, firing range; access will be improved to the water conveyance system operated and maintained by city of Folsom personnel; access will be improved to the Bureau of Land Management storage area located on Reclamation property; and, access will be improved to the U.S. Army Corps of Engineers, Resident Office site.

Reclamation will be prohibiting motor vehicle and pedestrian access to the affected area. The following acts are prohibited in the closure area:

(a) Operating a motor vehicle on the roadway or any part thereof to include stopping, standing, or parking a motor vehicle in the affected area.

Exceptions: Reclamation employees acting within the scope their employment, operations, maintenance and construction personnel that have expressed authorization from Reclamation; California Department of Corrections, law enforcement and fire department officials, and others who have received expressed written authorization from the Bureau of Reclamation to enter the closure area.

(b) Pedestrians, bicyclist and equestrians will not be permitted in the area affected by the closure.

(c) Vandalism or destroying, injuring, defacing, or damaging property or real property that is not under one's lawful control or possession.

This order is posted in accordance with 43 CFR 423.3(b). Violation of this prohibition or any prohibition listed in 43 CFR 423 is punishable by fine, or imprisonment for not more than 6 months, or both.

Dated: April 28, 2004.
Michael R. Finnegan,
Central California Area Office, Mid-Pacific Region.

[FR Doc. 04-10297 Filed 5-5-04; 8:45 am]

BILLING CODE 4310-MN-P